EXPORT-IMPORT BANK

[Public Notice 2021-6047]

Agency Information Collection Activities: Comment Request

AGENCY: Export-Import Bank of the United States

ACTION: Submission for OMB Review and Comments Request.

SUMMARY: The Export-Import Bank of the United States (EXIM), as a part of its continuing effort to reduce paperwork and respondent burden, invites the general public and other Federal Agencies to comment on the proposed information collection, as required by the Paperwork Reduction Act of 1995. EXIM's financial institution policy holders provide this form to U.S. exporters, who certify to the eligibility of their exports for EXIM support. The completed forms are held by the financial institution policy holders, only to be submitted to EXIM in the event of a claim filing. A requirement of EXIM's policies is that the insured financial institution policy holder obtains a completed Exporter's Certificate at the time it provides financing for an export. This form will enable EXIM to identify the specific details of the export transaction. These details are necessary for determining the eligibility of claims for approval. EXIM staff and contractors review this information to assist in determining that an export transaction, on which a claim for non-payment has been submitted, meets all of the terms and conditions of the insurance coverage.

DATES: Comments must be received on or before February 18, 2022 to be assured of consideration.

ADDRESSES: Comments may be submitted electronically on WWW.REGULATIONS.GOV or by mail to Jean Fitzgibbon, jean.fitzgibbon@exim.gov, Export-Import Bank of the United States, 811 Vermont Ave. NW, Washington, DC.

FOR FURTHER INFORMATION CONTACT: To request additional information, please contact Jean Fitzgibbon. 202-565-3620.

The form can be viewed at: https://www.exim.gov/sites/default/files/pub/pending/eib-94-07.pdf.

SUPPLEMENTARY INFORMATION: Titles and Form Number: EIB 94-07 Exporters Certificate for Use with a Short Term Export Credit Insurance Policy.

OMB Number: 3048-0041.

Type of Review: Regular.

Need and Use: EXIM uses the referenced form to obtain exporter certification regarding the export transaction, U.S. content, non-military use, non-nuclear use, compliance with EXIM's country cover policy, and their eligibility to participate in USG programs. These details are necessary to determine the legitimacy of claims submitted. It also provides the financial institution policy holder a check on the export transaction's eligibility, at the time it is fulfilling a financing request.

Affected Public: This form affects entities involved in the export of U.S. goods and services.

Annual Number of Respondents: 240.

Estimated Time per Respondent: 15 minutes.

Annual Burden Hours: 60 hours.

Frequency of Reporting of Use: As required.

Government Expenses:

Reviewing time per year: 12 hours.

Average Wages per Hour: $42.50.

Average Cost per Year: $510 (time * wages).

Benefits and Overhead: 20%.

Total Government Cost: $612.

Bassam Doughman,
IT Specialist.

[FR Doc. 2021-27464 Filed 12-17-21; 8:45 am]

BILLING CODE 6690-01-P